FEDERAL MINE SAFETY AND HEALTH REVIEW COMMISSION

Sunshine Act Notice

December 10, 2012.

TIME AND DATE: 11:00 a.m., Thursday, December 20, 2012.

PLACE: The Richard V. Backley Hearing Room, Room 511N, 1331 Pennsylvania Avenue NW., Washington, DC 20004 (entry from F Street entrance).

STATUS: Open.

MATTERS TO BE CONSIDERED: The Commission will consider and act upon the following in open session: Mark Gray v. North Fork Coal Corporation, Docket No. KENT 2010-430-D. (Issues include whether the Administrative Law Judge erred in ruling that the complainant had failed to meet his burden of showing that unlawful discrimination had occurred.)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2012-30306 Filed 12-12-12; 4:15 pm]

BILLING CODE 6735-01-P